DEPARTMENT OF JUSTICE

Antitrust Division

Notice Pursuant to the National Cooperative Research and Production Act of 1993—Joint Venture Under ATP Award No. 70NANB4H3027

Notice is hereby given that, on May 23, 2007, pursuant to section 6(a) of the National Cooperative Research and Production Act of 1993, 15 U.S.C. 4301 et seq. (“the Act”), Joint Venture under ATP Award No. 70NANB4H3027 has filed written notifications simultaneously with the Attorney General and the Federal Trade Commission disclosing changes in its membership. The notifications were filed for the purpose of extending the Act's provisions limiting the recovery of antitrust plaintiffs to actual damages under specified circumstances. Specifically, Nuvonyx Inc, Bridgeton, MO, is now a wholly owned subsidiary company of ICX Technologies.

No other changes have been made in either the membership or planned activity of the group research project. Membership in this group research project remains open, and joint venture under ATP Award No. 70NANB4H3027 intends to file additional written notifications disclosing all changes in membership.

On July 19, 2004, joint venture under ATP Award No. 70NANB4H3027 filed its original notification pursuant to section 6(a) of the Act.

The Department of Justice published a notice in the Federal Register pursuant to section 6(b) of the Act on August 18, 2004 (69 FR 51328).

Patricia A. Brink,
Deputy Director of Operations, Antitrust Division.

[FR Doc. 07-3419 Filed 7-12-07; 8:45 am]

BILLING CODE 4410-11-M